ENVIRONMENTAL PROTECTION AGENCY

[EPA-HQ-OPP-2016-0618; FRL-9959-38]

Cancellation Order for Certain Pesticide Registrations and/or Amendments To Terminate Uses

AGENCY: Environmental Protection Agency (EPA).

ACTION: Notice.

SUMMARY: This notice announces EPA's order for the cancellations and/or amendments to terminate uses, voluntarily requested by the registrants and accepted by the Agency, of products listed in Table 1 and 2 of Unit II., pursuant to the Federal Insecticide, Fungicide, and Rodenticide Act (FIFRA). This cancellation order follows a November 22, 2016 Federal Register Notice of Receipt of Requests from the registrants listed in Table 3 of Unit II. to voluntarily cancel and/or amend to terminate uses of these product registrations. In the November 22, 2016 notice, EPA indicated that it would issue an order implementing the cancellations and/or amendments to terminate uses, unless the Agency received substantive comments within the 30-day comment period that would merit its further review of these requests, or unless the registrants withdrew their requests. The Agency did not receive any comments on the notice. Further, the registrants did not withdraw their requests. Accordingly, EPA hereby issues in this notice a cancellation order granting the requested cancellations and/or amendments to terminate uses. Any distribution, sale, or use of the products subject to this cancellation order is permitted only in accordance with the terms of this order, including any existing stocks provisions.

DATES: The propoxur product cancellations are effective December 31, 2017. The remaining cancellations and/or amendments are effective April 10, 2017.

FOR FURTHER INFORMATION CONTACT: Brittany Pruitt, Pesticide Re-Evaluation Division (7508P), Office of Pesticide Programs, Environmental Protection Agency, 1200 Pennsylvania Ave. NW., Washington, DC 20460-0001; telephone number: (703) 347-0289; email address: pruitt.brittany@epa.gov.

SUPPLEMENTARY INFORMATION:

I. General Information

A. Does this action apply to me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action.

B. How can I get copies of this document and other related information?

The docket for this action, identified by docket identification (ID) number EPA-HQ-OPP-2016-0618, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What action is the agency taking?

This notice announces the cancellations and/or amendments to terminate uses, as requested by registrants, of products registered under FIFRA section 3 (7 U.S.C. 136a). These registrations are listed in sequence by registration number in Tables 1 and 2 of this unit.

Table 1—Dimethomorph, Metiram, Profenofos, Propoxur and Sodium Acifluorfen Product Cancellations
EPA registration No. | Product name
4-433 | Bonide Kleen Up Grass and Weed Killer, Ready to Use.
100-598 | Profenofos Technical.
100-699 | Curacron 8E.
279-3395 | CB Invader with Propoxur.
241-383 | Acrobat MZ Fungicide.
241-395 | Acrobat MZ WDG Fungicide.
241-410 | Acrobat 50 WP Fungicide.
241-411 | Stature MZ Fungicide.
241-419 | Stature DM Fungicide.
3862-135 | Drop Dead.
6218-24 | Permacide Plus.
7969-105 | Polyram 80 DF.
7969-321 | Cabrio Plus Fungicide.
11556-33 | Sendran Technical.
89459-39 | Prentox Prenbay 1.5 BC.
89459-28 | Prentox Prenbay 1% Oil.
FL980001 | Polyram 80 DF.

Table 2—Captan and Propoxur Product Registration Amendments To Terminate Uses
EPA registration No. | Product name | Uses terminated
42750-230 | Captan Technical | Turf (golf courses and sod farms), seed beds and greenhouse bench treatment.
42750-231 | Captan 80 DF | Dichondra, turf grasses (golf courses, ornamental in non-pastured areas only), grasses (lawn seedbeds), turf (sod farms).
42750-235 | Captan 50% WP | Dichondra, turf grasses (ornamentals in non-pastured areas only), grasses (lawn seedbeds).
42750-236 | Captan 39.75% FL | Dichondra, turf grasses (ornamental in non-pastured areas only), grasses (lawn seed beds).
84396-12 | Sungro Residual Spray | Indoor aerosol, spray, and liquid formulations; use in food handling establishments and indoor crack and crevice use.

Table 3 of this unit includes the names and addresses of record for all registrants of the products in Tables 1 and 2 of this unit, in sequence by EPA company number. This number corresponds to the first part of the EPA registration numbers of the products listed above.

Table 3—Registrants of Cancelled and/or Amended Products
EPA company No. | Company name and address
4 | Bonide Products, Inc., 6301 Sutliff Road, Oriskany, NY 13424.
100 | Syngenta Crop Protection, P.O. Box 18300, Greensboro, NC 27419.
241 | BASF Corporation, 29 Davis Drive, Research Triangle Park, NC 27709.
279 | FMC Corporation, 1735 Market Street, Philadelphia, PA 19103.
3862 | ABC Compounding Company, Inc., P.O. Box 16247, Atlanta, GA 30321.
6218 | Summit Chemical Company, 8322 Sharon Drive, Frederick, MD 21704.
7969 | BASF Corporation, P.O. Box 13528, Research Triangle Park, NC 27709.
11556 | Bayer Healthcare, LLC, P.O. Box 390, Shawnee Mission, KS 66201.
42750 | Albaugh LLC, P.O. Box 2127, Valdosta, GA 31604-2127.
84396 | Sungro Products, LLC, 810 E. 18th Street, Los Angeles, CA 90021.
89459 | Central Garden & Pet Company, 1501 E. Woodfield Road, Suite 200, West Schaumburg, IL 60173.

III. Summary of Public Comments Received and Agency Response to Comments

During the public comment period provided, EPA received no comments in response to the November 22, 2016 Federal Register notice announcing the Agency's receipt of the requests for voluntary cancellations and/or amendments to terminate uses of products listed in Tables 1 and 2 of Unit II.

IV. Cancellation Order

Pursuant to FIFRA section 6(f) (7 U.S.C. 136d(f)(1)), EPA hereby approves the requested cancellations and/or amendments to terminate uses of the registrations identified in Tables 1 and 2 of Unit II. Accordingly, the Agency hereby orders that the product registrations identified in Tables 1 and 2 of Unit II. are canceled and/or amended to terminate the affected uses. The effective date of the propoxur product cancellations that are subject to this notice is December 31, 2017. The effective date of the remaining cancellations that are subject to this notice is April 10, 2017. Any distribution, sale, or use of existing stocks of the products identified in Tables 1 and 2 of Unit II. in a manner inconsistent with any of the provisions for disposition of existing stocks set forth in Unit VI. will be a violation of FIFRA.

V. What is the agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register. Thereafter, following the public comment period, the EPA Administrator may approve such a request. The notice of receipt for this action was published for comment in the Federal Register of November 22, 2016 (81 FR 83833) (FRL-9954-80). The comment period closed on December 22, 2016.

VI. Provisions for Disposition of Existing Stocks

Existing stocks are those stocks of registered pesticide products which are currently in the United States and which were packaged, labeled, and released for shipment prior to the effective date of the action. The existing stocks provisions for the products subject to this order are as follows:

A. For Propoxur Products 279-3395, 3862-135, 6218-24, 11556-33, 89459-28, 89459-39 Identified in Table 1 of Unit II.

At the request of the registrant FMC Corporation, the effective product cancelation date for the propoxur products listed in Table 1 of Unit II. is December 31, 2017. The registrants may continue to sell and distribute existing stocks of the propoxur products listed in Table 1 of Unit II. until December 31, 2017. Thereafter, registrants will be prohibited from selling or distributing the propoxur products identified in Table 1 of Unit II., except for export consistent with FIFRA section 17 (7 U.S.C. 136o) or for proper disposal.

Persons other than the registrant may sell, distribute, or use existing stocks of the affected cancelled products until supplies are exhausted, provided that such sale, distribution, or use is consistent with the terms of the previously approved labeling on, or that accompanied, the cancelled products.

B. For All Other Products Identified in Table 1 and 2 of Unit II.

For all other voluntary product cancellations noted, the registrants may continue to sell and distribute existing stocks of products listed in Table 1 of Unit II. until April 10, 2018, which is 1 year after publication of this cancellation order in the Federal Register. Thereafter, registrants are prohibited from selling or distributing the products identified in Table 1 of Unit II., except for export consistent with FIFRA section 17 (7 U.S.C. 136o) or for proper disposal.

In the case of products for which there are requested amendments to terminate uses, once EPA has approved product labels reflecting the requested amendments to terminate uses, the registrant will be permitted to sell or distribute products under the previously approved labeling for a period of 18 months after the date of Federal Register publication of the cancellation order, unless other restrictions have been imposed. Thereafter, the registrant will be prohibited from selling or distributing the products whose labels include the deleted uses identified in Table 2 of Unit II., except for export consistent with FIFRA section 17 or for proper disposal.

Persons other than the registrant may sell, distribute, or use existing stocks of the affected cancelled products/products under the previously approved labeling until supplies are exhausted, provided that such sale, distribution, or use is consistent with the terms of the previously approved labeling on, or that accompanied, the cancelled products/products under the previously approved labeling.

Authority: 7 U.S.C. 136 et seq.

Dated: March 9, 2017.
Yu-Ting Guilaran,
Director, Pesticide Re-Evaluation Division, Office of Pesticide Programs.

[FR Doc. 2017-07133 Filed 4-7-17; 8:45 am]

BILLING CODE 6560-50-P